CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps Enrollment Form, and AmeriCorps Exit Form, to the Office of Management and Budget (OMB) for review and approval in accordance with the Paperwork Reduction Act of 1995, Pub. L. 104-13, (44 U.S.C. Chapter 35). Copies of this ICR, with applicable supporting documentation, may be obtained by calling the Corporation for National and Community Service, Bruce Kellogg at 202-606-6954. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on January 30, 2007. This comment period ended March 30, 2007. One public comment was received from this notice. This questioned whether the AmeriCorps member or the program's Certifying Official should certify a member's prior service. The Corporation determined that the member should self-certify this information as it may not be available to the certifying official. A further suggestion to delete names of inactive program types will be implemented as appropriate.

Description: Currently, the Corporation is soliciting comments concerning the proposed renewal of its AmeriCorps Enrollment Form and its AmeriCorps Exit Form. The enrollment and exit forms are completed jointly by members interested in performing a period of national service and by programs providing that opportunity. Upon successfully completing a term of service an AmeriCorps participant my receive an education award that may be used to pay for certain educational expenses or for qualified student loans. Enrollment and exit processing is completed electronically. The paper forms are retained by the programs for audit purposes.

Type of Review: Renewal

Agency: Corporation for National and Community Service.

Title: AmeriCorps Enrollment Form, and AmeriCorps Exit Form.

OMB Number: 3045-0006 (Enrollment) & 3045-0015 (Exit).

Agency Number: None.

Affected Public: Individuals about to participate in an AmeriCorps program (Enrollment) and AmeriCorps members who have ended their term of service (Exit).

Total Respondents: 73,000 annually for each form.

Frequency: Annually.

Average Time per Response: 7 minutes for each form (4 minutes for the AmeriCorps member to complete the form, and 3 minutes for the program staff).

Estimated Total Burden Hours: 17032 for both forms. (8516 each)

Total Burden Cost (capital/startup): None.

Total Burden Cost (operating/maintenance): None.

Dated: April 7, 2007.
Cynthia Wooten,
Manager, National Service Trust.

[FR Doc. E7-7213 Filed 4-16-07; 8:45 am]

BILLING CODE 6050-$$-P